DEPARTMENT OF TRANSPORTATION

Research and Special Programs Administration (RSPA)

[Docket No. RSPA-98-4470]

Pipeline Safety: Meeting of the Gas Pipeline Safety Advisory Committee

AGENCY: Office of Pipeline Safety, Research and Special Programs Administration, DOT.

ACTION: Notice; Meeting of Technical Pipeline Safety Standards Committee.

SUMMARY: A meeting of the Technical Pipeline Safety Standards Committee (TPSSC), the gas pipeline advisory committee, will be held on Thursday, July 18, 2002, from 9 a.m. to 6 p.m. in Washington, DC. The TPSSC will be advising the Office of Pipeline Safety (OPS) and voting on the proposed definition of High Consequence Areas (HCA) for Gas Transmission Operators which was published on January 9, 2002 (67 FR 1108). This definition will be referenced in an upcoming proposed rule on Pipeline Integrity Management in HCAs (Gas Transmission Pipeline Operators).

OPS will brief the TPSSC on integrity management concepts for gas pipelines and on the comments received in response to previous notices. In addition, OPS will present the draft cost-benefit analysis prepared for the upcoming proposed rule on integrity management programs for gas transmission pipelines. Because of the importance of this rule, OPS is providing the regulatory evaluation for peer review by the TPSSC before the proposed rule has been finalized.

ADDRESSES: Members of the public may attend the meetings at the Department of Transportation, Nassif Building, 400 Seventh Street, SW., Washington, DC 20590. The exact location and room number for this meeting will be posted on the OPS web page approximately 15 days before the meeting date at http://ops.dot.gov.

An opportunity will be provided for the public to make short statements on the topics under discussion. Anyone wishing to make an oral statement should notify Juan Carlos Martinez, (202) 366-1933, not later than July 12, 2002, on the topic of the statement and the length of your presentation. The presiding officer at each meeting may deny any request to present an oral statement and may limit the time of any presentation.

You may submit written comments by mail or deliver to the Dockets Facility, U.S. Department of Transportation, Room PL-401, 400 Seventh Street, SW., Washington, DC 20590-0001. It is open from 10 a.m. to 5 p.m., Monday through Friday, except Federal holidays. You also may submit written comments to the docket electronically. To do so, log onto the following Internet Web address: http://dms.dot.gov. Click on “Help & Information” for instructions on how to file a document electronically. All written comments should reference docket number RSPA-98-4470. Anyone who would like confirmation of mailed comments must include a self-addressed stamped postcard.

Information on Services for Individuals With Disabilities

For information on facilities or services for individuals with disabilities or to request special assistance at the meeting, contact Juan Carlos Martinez at (202) 366-1933.

FOR FURTHER INFORMATION CONTACT: Cheryl Whetsel, OPS, (202) 366-4431 or Richard Huriaux, OPS, (202) 366-4565, regarding the subject matter of this notice.

SUPPLEMENTARY INFORMATION: The TPSSC is a statutorily mandated advisory committee that advises RSPA on proposed safety standards for gas pipelines. This advisory committee is constituted in accordance with section 10(a)(2) of the Federal Advisory Committee Act (Pub. L. 92-463, 5 U.S.C. App. 1). The committee consists of 15 members—five each representing government, industry, and the public. The TPSSC is tasked with determining reasonableness, cost-effectiveness, and practicability of proposed pipeline rules. In addition, Federal law (49 U.S.C. 60115(a)) requires that the TPSSC serve as peer reviewer committees for purposes of all Federal laws relating to risk assessment and peer review.

The TPSSC will be advising OPS and voting on the proposed definition of High Consequence Areas (HCA) for Gas Transmission Operators which was published on January 9, 2002 (67 FR 1108). This definition will be referenced in an upcoming proposed rule on Pipeline Integrity Management in HCAs (Gas Transmission Pipeline Operators).

In addition, OPS will brief the TPSSC on integrity management concepts for gas pipelines and on the comments received in response to previous notices. OPS will provide copies and explain the draft cost-benefit analysis prepared for the upcoming proposed rule on integrity management programs for gas transmission pipelines. Because of the importance of this rule, OPS is submitting the regulatory evaluation for peer review by the TPSSC before the proposed rule has been finalized.

The upcoming proposed integrity management rule for gas transmission pipelines maintains the duty of a gas pipeline to comply with the current pipeline safety regulations (49 CFR part 192), but creates a protective umbrella of more comprehensive assessment, repair, prevention, and mitigative actions in those areas (high consequence areas) where a failure would do the greatest damage. This assessment process will produce better information about problems that may have been missed and creates checks and balances to assure that the best use is made of available information to correct newly found problems.

The proposed gas pipeline integrity management rule will be the culmination of a seven-year investigation of ways to improve the safety, security, and reliability of natural gas transmission lines in a cost-effective manner. It is based on risk assessment and specifically addresses the unique characteristics associated with gas pipelines, much in the same manner as the hazardous liquid integrity management rule addressed hazardous liquid pipeline characteristics.

This rulemaking also will address the trend of people moving closer to pipelines, which increase the threats of outside force damages to the pipelines, associated with construction.

Key concepts OPS is considering for the proposed gas integrity management rule include:

1. Expansion of the areas where added protection is required based on history of recent accidents in which a large impact area was experienced.

2. Improvement of protection though better inspection and management technology.

3. Establishment of stronger repair requirements.

4. Integration of various kinds of information to provide a clearer picture of threats.

5. Requirement to address each threat to integrity.

OPS has already sought and has received general comments from the public on gas transmission pipeline integrity management in high consequence areas. On June 27, 2001, RSPA issued a notice of request for comments on integrity management of gas transmission pipelines in high consequence areas (66 FR 34318). A copy of the notice and the comments are in Docket RSPA-00-7666, which is accessible on the Internet from the DOT Dockets Management System at http://dms.dot.gov. The notice sought comment on the following issues relating to establishment of integrity management programs by gas transmission pipelines:

1. Defining high consequence areas.

2. Identifying and evaluating threats to pipeline integrity.

3. Selecting the assessment technologies.

4. Determining time frames to conduct a baseline integrity assessment and to make repairs.

5. Identifying and implementing additional preventive and mitigative measures.

6. Evaluating and reassessing pipeline segments.

7. Monitoring the effectiveness of the management process.

Based in part on comments received and on meetings with representatives of the gas pipeline industry, research institutions, State pipeline safety agencies, and public interest groups, on January 9, 2002, RSPA issued a notice of proposed rulemaking to define areas of high consequence, i.e., areas where the impact of a gas transmission pipeline accident on people, property, or the environment could be unusually severe (67 FR 1108). This proposed rule is the first step in a two-step process to address integrity management programs for gas transmission pipelines. Although the proposed definition does not require any specific action by pipeline operators, it will be referenced in the upcoming proposed rule to require pipeline integrity management programs for gas transmission pipelines.

In addition to requirements for cost-benefit analysis of proposed pipeline safety standards, Federal law (49 U.S.C. 60115(c)) requires that OPS submit cost-benefit results and risk assessment information to one of two advisory committees established to support OPS on technical and policy issues. A key responsibility of the TPSSC is to provide peer review and evaluation of OPS' cost-benefit analyses for proposed gas pipeline standards. The TPSSC must: (1) Evaluate the merit of the data and methods used within the analyses, and (2) when appropriate, provide recommendations relating to the cost-benefit analyses.

OPS will consider the advice of the TPSSC and its peer review of the draft regulatory evaluation in crafting the proposed rule to require gas transmission pipelines to institute integrity management programs. The proposed rule will be submitted to the TPSSC for comment after it is published. Any comments by the TPSSC will be carefully considered before a final rule is issued.

Authority: 49 U.S.C. 60102, 60115.

Issued in Washington, DC.
Stacey L. Gerard,
Associate Administrator for Pipeline Safety.

[FR Doc. 02-15997 Filed 6-24-02; 8:45 am]

BILLING CODE 4910-60-P